DEPARTMENT OF ENERGY

Federal Energy Regulatory Commission

Combined Notice of Filings #2

Take notice that the Commission received the following electric rate filings:

Docket Numbers: ER16-778-002.

Applicants: MATL LLP.

Description: Compliance filing: Attachment K Compliance filing to be effective 3/27/2016.

Filed Date: 5/18/16.

Accession Number: 20160518-5104.

Comments Due: 5 p.m. ET 6/8/16.

Docket Numbers: ER16-966-001.

Applicants: New York Independent System Operator, Inc.

Description: Compliance filing: NYISO compliance filing of PPTPP cleanup to be effective 2/19/2016.

Filed Date: 5/18/16.

Accession Number: 20160518-5126.

Comments Due: 5 p.m. ET 6/8/16.

Docket Numbers: ER16-1256-001.

Applicants: Panda Liberty LLC.

Description: Tariff Amendment: Supp. to Reactive Supply and Voltage Control from Generation or Other Sources to be effective 6/1/2016.

Filed Date: 5/18/16.

Accession Number: 20160518-5111.

Comments Due: 5 p.m. ET 6/8/16.

Docket Numbers: ER16-1728-000.

Applicants: ISO New England Inc., New England Power Pool Participants Committee

Description: Section 205(d) Rate Filing: Changes to Allocation of GIS Costs for Extension of API to be effective 7/1/2016.

Filed Date: 5/18/16.

Accession Number: 20160518-5078.

Comments Due: 5 p.m. ET 6/8/16.

Docket Numbers: ER16-1729-000.

Applicants: MATL LLP.

Description: Section 205(d) Rate Filing: Tariff Clean up filing to be effective 7/18/2016.

Filed Date: 5/18/16.

Accession Number: 20160518-5106.

Comments Due: 5 p.m. ET 6/8/16.

Docket Numbers: ER16-1730-000.

Applicants: Public Service Company of Colorado.

Description: Section 205(d) Rate Filing: 2016-5-18_PSCoCherokeeDeprecRatesFiling-ID2000 to be effective 7/29/2015.

Filed Date: 5/18/16.

Accession Number: 20160518-5110.

Comments Due: 5 p.m. ET 6/8/16.

Docket Numbers: ER16-1731-000.

Applicants: Public Service Company of Colorado.

Description: Section 205(d) Rate Filing: Att O-PSCo Cherokee 567 Deprec Rates to be effective 4/16/2016.

Filed Date: 5/18/16.

Accession Number: 20160518-5113.

Comments Due: 5 p.m. ET 6/8/16.

Docket Numbers: ER16-1732-000.

Applicants: Aurora Generation, LLC.

Description: Baseline eTariff Filing: Application for Market-Based Rate Authorization Under Section 205 of the FPA to be effective 5/19/2016.

Filed Date: 5/18/16.

Accession Number: 20160518-5118.

Comments Due: 5 p.m. ET 6/8/16.

Docket Numbers: ER16-1733-000.

Applicants: Public Service Company of Colorado.

Description: Section 205(d) Rate Filing: 20160518_Cherokee Depreciation to be effective 7/29/2015.

Filed Date: 5/18/16.

Accession Number: 20160518-5120.

Comments Due: 5 p.m. ET 6/8/16.

Docket Numbers: ER16-1734-000.

Applicants: Public Service Company of Colorado.

Description: Section 205(d) Rate Filing: 20160518_Cherokee Depreciation Rates Filing to be effective 4/16/2016.

Filed Date: 5/18/16.

Accession Number: 20160518-5121.

Comments Due: 5 p.m. ET 6/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2016.
Nathaniel J. Davis, Sr.,
Deputy Secretary.

[FR Doc. 2016-12199 Filed 5-23-16; 8:45 am]

BILLING CODE 6717-01-P